DEPARTMENT OF TRANSPORTATION

Federal Highway Administration

Notice of Withdrawal of the Notice of Intent To Prepare an Environmental Impact Statement (EIS) for the Improvements to Interstate 515 (I-515), Clark County, NV

AGENCY: U.S. Federal Highway Administration (FHWA), DOT.

ACTION: Notice of Withdrawal of the Notice of Intent to prepare an EIS for the improvements to I-515 in Clark County, Nevada.

SUMMARY: The FHWA is issuing this notice to advise the public that, effective immediately, the Notice of Intent (NOI) (Federal Register Vol. 69, No. 156; FR Doc 04-18584) to prepare an EIS for the proposed improvements to I-515 in the cities of Las Vegas and Henderson, Clark County, NV and in that portion of unincorporated Clark County located between the two cities, is being withdrawn. The NOI for the EIS was announced on August 13, 2004.

FOR FURTHER INFORMATION CONTACT: For Federal Highway Administration: Abdelmoez Abdalla, Environmental Program Manager, Federal Highway Administration, 705 N. Plaza, Suite 220, Carson City, NV 89701, Telephone: 775-687-1231, email: Abdelmoez.Abdalla@fhwa.dot.gov. For the Nevada Department of Transportation (NDOT): Mr. Steve M. Cooke, P.E., Chief, Environmental Services Division, Nevada Department of Transportation, 1263 South Stewart Street, Carson City, Nevada 89712; telephone: (775) 888-7013; email: scooke@dot.state.nv.us.

SUPPLEMENTARY INFORMATION: The project was to involve improvements to the I-515 Corridor between the southern terminus of the present I-515 Freeway in the City of Henderson (MP56) and the northern terminus of I-515 in the City of Las Vegas (MP76). The purpose of the project was to make improvements to the corridor necessary to provide for existing and projected traffic demand resulting from the growth of interstate traffic and local commuter traffic in the southeast Las Vegas Valley. Because of the economic downturn, FHWA and NDOT are reassessing the needs and timing for improvements to the I-515 Corridor and have indefinitely postponed any major improvements to the corridor.

Issued on June 14, 2012.
Susan Klekar,
Division Administrator, Carson City, Nevada.

[FR Doc. 2012-14994 Filed 6-19-12; 8:45 am]

BILLING CODE 4910-22-P